DEPARTMENT OF ENERGY

Nuclear Energy Advisory Committee

AGENCY: Office of Nuclear Energy, Department of Energy.

ACTION: Notice of open meeting.

SUMMARY: This notice announces an open meeting of the Nuclear Energy Advisory Committee. The Federal Advisory Committee Act requires that public notice of this meeting be announced in the Federal Register.

DATES: Tuesday, August 2, 2022; 9:00 a.m.-4:30 p.m.

ADDRESSES: Hilton Washington DC National Mall The Wharf, 480 L'Enfant Plaza SW, Washington, DC 20024.

FOR FURTHER INFORMATION CONTACT: Luke Branscum, Designated Federal Officer, U.S. Department of Energy, 1000 Independence Ave. SW, Washington, DC 20585; (202) 586-4290; email: Luke.Branscum@nuclear.energy.gov.

SUPPLEMENTARY INFORMATION:

Purpose of the Committee: The Nuclear Energy Advisory Committee provides advice and recommendations to the Assistant Secretary for Nuclear Energy on national policy and scientific aspects of nuclear issues of concern to DOE.

Purpose of Meeting: The Nuclear Energy Advisory Committee will hold a meeting on August 2, 2022, to introduce the committee to the priorities of the Office of Nuclear Energy, to determine priorities for the Committee, and to discuss subcommittees to recommend for formation to the Assistant Secretary for Nuclear Energy.

Tentative Agenda

• Welcome and Opening Remarks

• Introductions of NEAC Members

• Office of Nuclear Energy Priorities

○ Nuclear Energy in a Global Context

○ Supporting the Exiting Nuclear Fleet

○ Developing and Deploying Advanced Reactor Technologies

○ Advanced Fuels/Fuel Cycle

○ Spent Fuel and HLW Management

• Priorities Q&A for NEAC Members & Discussion

• Discussion: NEAC Priorities

• Forming Subcommittees and Next Steps

• Public Comment Period and Closing Remarks

• Adjourn.

All attendees are requested to register in advance for the meeting at: https://forms.office.com/g/wTUc0zcRzd or by emailing Luke.Branscum@nuclear.energy.gov.

Public Participation: Written statements may be filed with the Committee either before or after the meeting. Individuals who wish to make oral statements pertaining to agenda items should contact Luke Branscum at the address or telephone listed above. Requests for an oral statement must be received at least five days prior to the meeting. Reasonable provision will be made to include requested oral statements in the agenda. The Designated Federal Officer is empowered to conduct the meeting in a fashion that will facilitate the orderly conduct of business. Individuals wishing to make public comments will be provided a maximum of five minutes to present their comments.

Minutes: Minutes will be available by contacting Luke Branscum at the address or phone number listed above. Minutes will also be available at the following website: https://www.energy.gov/ne/nuclear-energy-advisory-committee.

Signed in Washington, DC, on July 5, 2022.
LaTanya Butler,
Deputy Committee Management Officer.

[FR Doc. 2022-14675 Filed 7-8-22; 8:45 am]

BILLING CODE 6450-01-P